DEPARTMENT OF HOMELAND SECURITY

Federal Emergency Management Agency

44 CFR Part 67

[Docket ID FEMA-2010-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Village of Dansville, New York
Docket No.: FEMA-B-1034
Canaseraga Creek | In the northern annexation, west of State Route 63, east of the railroad, and approximately 2,800 feet north of Zerfass Road | * 607 | Village of Dansville.
| In the northern annexation, just east of the railroad, approximately 1,500 feet north of Zerfass Road along the railroad | * 610
* National Geodetic Vertical Datum.
+ North American Vertical Datum.
# Depth in feet above ground.
‸ Mean Sea Level, rounded to the nearest 0.1 meter.
ADDRESSES
Village of Dansville
Maps are available for inspection at 14 Clara Barton Street, Dansville, NY 14437.
Town of Sparta, New York
Docket No.: FEMA-B-1025
Canaseraga Creek | Just upstream of State Route 258/Flats Road | * 576 | Town of Sparta.
| Approximately 1.2 mile upstream of White Bridge Road | * 614
* National Geodetic Vertical Datum.
+ North American Vertical Datum.
# Depth in feet above ground.
‸ Mean Sea Level, rounded to the nearest 0.1 meter.
ADDRESSES
Town of Sparta
Maps are available for inspection at 8302 Kysorville-Byersville Road, Dansville, NY 14437.
Lee County, Illinois, and Incorporated Areas
Docket No.: FEMA-B-1041
Kyte River | Approximately 1,080 feet west of Thorpe Road | + 770 | Unincorporated Areas of Lee County.
| Approximately 125 feet west of Illinois Route 251 | + 771
* National Geodetic Vertical Datum.
+ North American Vertical Datum.
# Depth in feet above ground.
‸ Mean Sea Level, rounded to the nearest 0.1 meter.
ADDRESSES
Unincorporated Areas of Lee County
Maps are available for inspection at the County Zoning Office, Old Lee County Courthouse, 3rd Floor, 112 East 2nd Street, Dixon, IL 61021.
Rock Island County, Illinois, and Incorporated Areas
Docket No.: FEMA-B-1032
Mississippi River | River Mile 449.4, approximately 0.65 mile upstream of the Mercer/Rock Island county boundary and 1.7 mile downstream of the confluence with Copperas Creek | + 555 | Unincorporated Areas of Rock Island County, City of East Moline, City of Moline, City of Rock Island, Village of Andalusia, Village of Cordova, Village of Hampton, Village of Milan, Village of Port Byron, Village of Rapids City.
| The Whitside/Rock Island county boundary (River Mile 512.25), approximately 0.6 mile upstream of the confluence with Meredosia Ditch | + 588
Sylvan Slough | The convergence with the Mississippi River (River Mile 482.7), approximately 0.3 mile downstream of Lock and Dam No. 15 | + 565 | City of Moline, City of Rock Island.
| The divergence from the Mississippi River (River Mile 486.0), Cross Section I, approximately 0.17 mile upstream of Memorial Bridge (I-74) | + 569
* National Geodetic Vertical Datum.
+ North American Vertical Datum.
# Depth in feet above ground.
‸ Mean Sea Level, rounded to the nearest 0.1 meter.
ADDRESSES
City of East Moline
Maps are available for inspection at City Hall, 915 16th Avenue, East Moline, IL 61244.
City of Moline
Maps are available for inspection at City Hall, 619 16th Street, Moline, IL 61265.
City of Rock Island
Maps are available for inspection at City Hall, 1528 3rd Street, Rock Island, IL 61201.
Unincorporated Areas of Rock Island County
Maps are available for inspection at the County Courthouse, 1504 3rd Avenue, Rock Island, IL 61201.
Village of Andalusia
Maps are available for inspection at the Village Hall, 221 1st Street, Andalusia, IL 61232.
Village of Cordova
Maps are available for inspection at 906 Main Avenue, Cordova, IL 61242.
Village of Hampton
Maps are available for inspection at 520 1st Avenue, Hampton, IL 61256.
Village of Milan
Maps are available for inspection at the Village Hall, 405 East 1st Street, Milan, IL 61264.
Village of Port Byron
Maps are available for inspection at 120 South Main Street, Port Byron, IL 61275.
Village of Rapids City
Maps are available for inspection at 1204 4th Avenue, Rapids City, IL 61278.
Linn County, Iowa, and Incorporated Areas
Docket No.: FEMA-B-1035
Big Creek | South Ely Street | + 713 | City of Bertram.
| Big Creek Road | + 719
Cedar Lake | Entire shoreline | + 727 | City of Cedar Rapids.
Cedar River | 1,300 feet downstream of the confluence with Indian Creek | + 711 | City of Cedar Rapids.
| Just downstream of Edgewood Road | + 730
McClouds Run | 1,373 feet downstream of Shaver Road Northwest | + 728 | City of Cedar Rapids.
| 1,056 feet upstream of Shaver Road Northeast | + 728
* National Geodetic Vertical Datum.
+ North American Vertical Datum.
# Depth in feet above ground.
‸ Mean Sea Level, rounded to the nearest 0.1 meter.
ADDRESSES
City of Bertram
Maps are available for inspection at 930 1st Street Southwest, Cedar Rapids, IA 52404.
City of Cedar Rapids
Maps are available for inspection at 1201 6th Street Southwest, Cedar Rapids, IA 52404.
Audrain County, Missouri, and Incorporated Areas
Docket No.: FEMA-B-1031
Davis Creek | Just downstream of County Highway 15/Paris Road | + 735 | Unincorporated Areas of Audrain County.
| At Kentucky Road | + 739
South Fork Salt River | At County Highway J | + 735 | Unincorporated Areas of Audrain County.
* National Geodetic Vertical Datum.
+ North American Vertical Datum.
# Depth in feet above ground.
‸ Mean Sea Level, rounded to the nearest 0.1 meter.
ADDRESSES
Unincorporated Areas of Audrain County
Maps are available for inspection at the County Courthouse, 101 North Jefferson Street, Mexico, MO 65265.
Saunders County, Nebraska and Incorporated Areas
Docket No.: FEMA-B-1038
Cottonwood Creek | Approximately 2,000 feet upstream of County Road Q | + 1313 | Unincorporated Areas of Saunders County, Village of Prague.
| Just upstream of Railroad Avenue | + 1332
| Just upstream of State Highway 79 | + 1335
Platte River (with levee) | Just upstream of U.S. Highway 6 | + 1064 | Unincorporated Areas of Saunders County, Village of Leshara, Village of Morse Bluff.
| Just upstream of State Highway 64 | + 1159
| At State Highway 79 | + 1277
Platte River (without levee) | Just upstream of U.S. Highway 6 | + 1064 | Unincorporated Areas of Saunders County, Village of Leshara, Village of Morse Bluff.
| Just upstream of State Highway 64 | + 1154
| At State Highway 79 | + 1277
* National Geodetic Vertical Datum.
+ North American Vertical Datum.
# Depth in feet above ground.
‸ Mean Sea Level, rounded to the nearest 0.1 meter.
ADDRESSES
Unincorporated Areas of Saunders County
Maps are available for inspection at the County Courthouse, 433 North Chestnut Street, Wahoo, NE 68066.
Village of Leshara
Maps are available for inspection at the Village Hall, 210 Summit Street, Leshara, NE 68064.
Village of Morse Bluff
Maps are available for inspection at the Village Hall, 440 2nd Street, Morse Bluff, NE 68648.
Village of Prague
Maps are available for inspection at the Village Hall, 401 West Center Avenue, Prague, NE 68050.

(Catalog of Federal Domestic Assistance No. 97.022, “Flood Insurance.”)

Dated: March 11, 2010.
Sandra K. Knight,
Deputy Federal Insurance and Mitigation Administrator, Mitigation, Department of Homeland Security, Federal Emergency Management Agency.

[FR Doc. 2010-6421 Filed 3-23-10; 8:45 am]

BILLING CODE 9110-12-P